SMALL BUSINESS ADMINISTRATION

Public Federal Regulatory Enforcement Fairness Roundtable; Small Business Administration, Region II Regulatory Fairness Board

The Small Business Administration Region II Regulatory Fairness Board and the SBA Office of the National Ombudsman will hold a Public Roundtable on Friday, September 26, 2003 at 9:30 a.m. at the State University of New York, State University Plaza, SUNY Board Room, Albany, NY 12246, to provide small business owners and representatives of trade associations with an opportunity to share information concerning the federal regulatory enforcement and compliance environment.

Anyone wishing to attend or to make a presentation must contact Jim King in writing or by fax, in order to be put on the agenda. Jim King, Small Business Development Center, 41 State Street, Albany, NY 12246, phone (518) 443-5398 Ext. 0 or 800-732-7232, fax (518) 443-5275, e-mail: J.King@nyssbdc.org.

For more information, see our Web site at http://www.sba.gov/ombudsman.

Dated: September 2, 2003.
Michael L. Barrera,
National Ombudsman.

[FR Doc. 03-23082 Filed 9-9-03; 8:45 am]

BILLING CODE 8025-01-P